DEPARTMENT OF ENERGY

Federal Energy Regulatory Commission

[Docket No. CP05-383-000]

Algonquin Gas Transmission, LLC; Notice of Availability of the Draft Environmental Impact Statement for the Proposed Northeast Gateway Project and Notice of Public Comment Meetings

May 19, 2006.

The staff of the Federal Energy Regulatory Commission (Commission or FERC) has cooperated in the preparation of the Draft Environmental Impact Statement (EIS) on the liquefied natural gas (LNG) facilities proposed by Algonquin Gas Transmission, LLC in the above-referenced docket. The Maritime Administration (MARAD) and the U. S. Coast Guard, as the lead Federal agencies, have issued a Notice in the Federal Register indicating the availability of the DEIS and requesting comments by July 3, 2006.

The U.S. Coast Guard will also hold public hearings in Gloucester, MA on June 14, 2006 and in Salem, MA on June 15, 2006. Both hearings will be from 6 p.m. to 8 p.m. (EST) and will be preceded by an informational open house from 4:30 p.m. to 6 p.m. The public meeting in Gloucester will be held at the Gloucester High School Auditorium, 32 Leslie O. Johnson Road, Gloucester, MA, telephone: 617-635-4100. The public meeting in Salem will be at the Salem State College Library, Charlotte Forten Hall, 360 Lafayette Street, Salem, MA, telephone: 978-542-7192.

The U.S. Coast Guard has mailed copies of the DEIS to Federal, state, and local government agencies; elected officials; Native American tribes; local libraries and newspapers; intervenors in the FERC's proceeding; individuals who provided scoping comments; and affected landowners and individuals. A copy of this DEIS, the application, and associated documentation are currently available for viewing at the DOT's Docket Management System Web site: http://dms.dot.gov under docket number 22219.

During preparation of the DEIS, the following FERC staff recommendations were inadvertently left out of section 4.12 of the DEIS:

1. Algonquin should not begin construction activities until:

a. FERC staff receives comments from the National Marine Fisheries Service (NMFS) regarding the proposed action;

b. the staff completes formal consultation with the NMFS, if required; and

c. Algonquin has received written notification from the Director of the Office of Energy Projects (OEP) that construction or use of mitigation may begin.

2. Prior to construction, Northeast Gateway (NEG) should provide to the U.S. Coast Guard (USCG) staff for review and approval a full air quality analysis identifying all mitigation requirements required to demonstrate conformity and submit detailed information documenting how the project would demonstrate conformance with the applicable SIP in accordance with Title 40 CFR 51.858. The documentation should address each regulatory criteria listed in part 51.858; provide a detailed explanation as to whether or not the project would meet each requirement; and for each criteria being satisfied, provide all supporting information on how the project would comply. Should any element of the project change substantially, NEG should resubmit the aforementioned information so that USCG staff may determine the Conformity of the revised action. In addition, FERC staff recommends that:

Prior to construction, Algonquin file documentation with the Secretary of the Commission that confirms USCG staff's review and approval of the project's air quality analysis and identifies all mitigation requirements required to demonstrate conformity with Title 40 CFR 51.858.

3. Algonquin should not begin construction of the project until it files with the Secretary of the Commission a copy of the determination of consistency with the Coastal Zone Management Plan issued by the Massachusetts Office of Coastal Zone Management.

4. Algonquin should prepare as-built construction plans for the Pipeline Lateral that include the details of where the pipeline would be laid on the ocean floor and protected with concrete mats. To minimize the potential for the pipeline to become an obstacle for ground fishing gear, these plans should be made available to the USCG and other jurisdictional agencies for dissemination to the commercial fishing industry.

5. Algonquin should file with the Secretary of the Commission, prior to construction, a detailed program to monitor the burial and backfilling of the Pipeline Lateral. Include documentation of all consultation with jurisdictional resource management agencies to determine the appropriate depth and cover criteria as well as any measures to minimize impacts to migrating lobsters from pipeline trenching and backfilling activities.

Magalie R. Salas,
Secretary.

[FR Doc. E6-8032 Filed 5-24-06; 8:45 am]

BILLING CODE 6717-01-P